DEPARTMENT OF HEALTH AND HUMAN SERVICES

Centers for Disease Control and Prevention

[60Day-06-06AN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Understanding the Determinants of Health Disparities within the National Breast and Cervical Cancer Early Detection Program (NBCCEDP)—New—National Center for Chronic Disease Prevention and Health Promotion (NCDDPHP), Centers for Disease Control and Prevention (CDC).

Background and Brief Description

The purpose of the project is to better understand the determinants of disparities in screening, follow-up, and diagnosis rates among white, black, and Hispanic patients served by the National Breast and Cervical Cancer Early Detection Program. Specifically, the project will examine what structural and system factors contribute to these disparities. Using key informant interviews with staff of selected NBCCEDPs and with local provider representatives (within selected NBCCEDP locations) who are involved in identifying, scheduling, or securing diagnostic and treatment resources for program clients, the project will answer two research questions: (1) How do NBCCEDP programs with a low percentage of disparities and programs with a high percentage of disparities differ in their completeness of follow-up diagnosis with white, black, and Hispanic women for both breast and cervical cancer, and (2) How do NBCCEDP programs with a low percentage of disparities and programs with a high percentage of disparities differ in their timing between screening and diagnosis with white, black, and Hispanic women for both breast and cervical cancer. In addition, recommendations that may serve to enhance technical assistance efforts to NBCCEDPs and local providers will be developed.

A total of 80 phone key informant interviews will be conducted across 8 program sites with 10 interviews being conducted per program. NBCCEDP programs were selected utilizing a systematic process based on (1) Measures of interest (completeness of follow-up diagnosis for both breast and cervical cancer and time between screening and diagnosis for both breast and cervical cancer; (2) racial/ethnic and age segmentation of women (i.e. comparing white vs. black and white vs. Hispanic; breast cancer age range: 18-64, cervical cancer age range: 50-64); (3) percent of minorities served by the program; and (4) disparate screening, follow-up, and diagnosis rates.

NBCCEDP Program Directors of the 8 chosen programs were contacted to obtain the names and contact information for the individuals who will be the key informants within the NBCCEDP programs. The data will be collected via telephone interviews with these informants who include: two high-level management staff (including the program director) with knowledge of structural and system factors that may contribute to the disparate rates, four mid-level staff within the BCCEDP program whose work involves interactions within the clinics who may have insight on clinical and staff factors that may contribute to the disparate rates, and four local-level staff within the BCCEDP program whose work involves working directly with patients and may have insight on patient factors that may contribute to the disparate screening, follow-up, and diagnosis rates among white, black, and Hispanic patients. Interviews will last approximately forty-five minutes each.

There are no costs to respondents except other than their time to participate in the survey.

Estimated Annualized Burden Hours

Respondents | Number of Respondents | Number of responses per respondent | Average burden per response (in hrs.) | Total burden (in hours)
High-Level Management Staff | 16 | 1 | 1.5 | 11
Mid-level Staff | 32 | 1 | 1.5 | 21
Local-level Staff | 32 | 1 | 1.5 | 21
Total | 80 |  |  | 53

Dated: December 19, 2005.
Joan F. Karr,
Acting Reports Clearance Officer, Centers for Disease Control and Prevention.

[FR Doc. E5-7862 Filed 12-23-05; 8:45 am]

BILLING CODE 4163-18-P